DEPARTMENT OF ENERGY

Federal Energy Regulatory Commission

[Docket No. CP00-436-000]

OneOk Caprock Pipeline Company, OkTex Pipeline Company; Notice of Application

August 21, 2000.

Take notice that on August 11, 2000, OneOk Caprock Pipeline Company (Caprock), and OkTex Pipeline Company (OkTex), both at 100 West Fifth Street, Tulsa, Oklahoma 74103, tendered for filing in Docket No. CP00-436-000 an application pursuant to section 7(b) and (c) of the Natural Gas Act (NGA) for permission and approval for Caprock to abandon certain pipeline facilities located in Texas and Oklahoma and for OkTex to acquire and operate the same facilities, all as more fully set forth in the application on file with the Commission and open to public inspection. This filing may be viewed on the web at http://www.ferc.fed.us/online/htm (call 202-208-2222 for assistance).

Caprock proposes to abandon the Beckham-Wheeler pipeline facilities by merger with OkTex. It is stated that the facilities consist of 1.88 miles of 20-inch pipeline and related facilities located in Beckham County, Oklahoma, and Wheeler County, Texas. It is explained that following the merger Caprock will cease to exist as a natural gas company, and that OkTex will be the surviving entity. It is asserted that following transfer of the facilities to OkTex, Caprock will no longer have any interstate facilities subject to regulation by the Commission, and that Caprock will cancel all tariffs. It is further asserted that OkTex will operate the facilities as part of its interstate system and will assume all service obligations and operational and economic responsibilities for the subject facilities. Caprock and OkTex state that the proposal will allow optimization of system operations and will improve service to customers.

Any questions regarding the application should be directed to C. Burnett Dunn, Attorney, at (918) 595-4816 or Kathleen Mazure at (202) 467-6370, Ext. 1022.

Any person desiring to be heard or to make any protest with reference to said application should on or before September 11, 2000, file with the Federal Energy Regulatory Commission, 888 First Street, NE., Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceedings. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Caprock or OkTex to appear or be represented at the hearing.

Linwood A. Watson, Jr.,
Acting Secretary.

[FR Doc. 00-21666 Filed 8-23-00; 8:45 am]

BILLING CODE 6717-01-M